DEPARTMENT OF COMMERCE

International Trade Administration

[A-508-814]

Brass Rod From Israel: Final Affirmative Determination of Sales at Less Than Fair Value

AGENCY: Enforcement and Compliance, International Trade Administration, U.S. Department of Commerce.

SUMMARY: The U.S. Department of Commerce (Commerce) determines that brass rod from Israel is being, or is likely to be, sold in the United States at less than fair value (LTFV). The period of investigation (POI) is April 1, 2022, through March 31, 2023.

DATES: Applicable August 5, 2024.

FOR FURTHER INFORMATION CONTACT: Andrew Hart, AD/CVD Operations, Office II, Enforcement and Compliance, International Trade Administration, U.S. Department of Commerce, 1401 Constitution Avenue NW, Washington, DC 20230; telephone: (202) 482-1058.

SUPPLEMENTARY INFORMATION:

Background

On December 14, 2023, Commerce published in the Federal Register its preliminary affirmative determination in the LTFV investigation of brass rod from Israel and invited interested parties to comment on the Preliminary Determination.¹ On December 7, 2023, due to the outbreak of war in Israel and the consequent impacts on all parts of the country, and in consideration of the November 21, 2023 letters submitted by the Government of Israel,² Commerce tolled all deadlines for this investigation for a period of 90 days.³ On July 22, 2024, Commerce tolled certain deadlines in this proceeding by seven days.⁴ The deadline for the final determination is now July 29, 2024.

¹ See Brass Rod from Israel: Preliminary Affirmative Determination of Sales at Less Than Fair Value, Postponement of Final Determination, and Extension of Provisional Measures, 88 FR 86632 (December 14, 2023) (Preliminary Determination), and accompanying Preliminary Decision Memorandum.

² See Government of Israel's Letter, “Comments on Prelim Determination,” dated November 21, 2023; and Embassy of Israel's Letter, “Upcoming Preliminary Decision,” dated November 21, 2023.

³ See Memorandum, “Tolling of Deadlines in the Less-Than-Fair Value Investigation of Brass Rod from Israel,” dated December 7, 2023.

⁴ See Memorandum, “Tolling of Deadlines for Antidumping and Countervailing Duty Proceedings,” dated July 22, 2024.

A summary of the events that occurred since Commerce published its Preliminary Determination, as well as a full discussion of the issues raised by parties for this final determination, may be found in the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Decision Memorandum for the Final Affirmative Determination in the Less-Than-Fair-Value Investigation of Brass Rod from Israel,” dated concurrently with, and hereby adopted by, this notice (Issues and Decision Memorandum).

Scope of the Investigation

The product covered by this investigation is brass rod from Israel. For a complete description of the scope of this investigation, see Appendix I to this notice.

Scope Comments

During this investigation, Commerce received scope comments from parties. Commerce issued a Preliminary Scope Decision Memorandum to address these comments and set aside a period for parties to address scope issues in scope-specific case and rebuttal briefs.⁶ We did not receive timely comments from any interested parties on the Preliminary Scope Decision Memorandum. Thus, we did not make any changes to the scope of the investigation from the scope published in the Preliminary Determination and included in Appendix I.⁷

⁶ See Memorandum, “Preliminary Scope Decision Memorandum,” dated September 25, 2023 (Preliminary Scope Decision Memorandum).

⁷ See Brass Rod from India: Final Affirmative Countervailing Duty Determination, 88 FR 87407 (December 18, 2023); see also Preliminary Determination.

Verification

As provided in section 782(i)(1) of the Tariff Act of 1930, as amended (the Act), in April and May 2024, we verified the sales and cost information submitted by Finkelstein Metals Ltd. (Finkelstein) for use in our final determination. We used standard verification procedures, including an examination of relevant sales and accounting records, and original source documents provided by Finkelstein.⁸

⁸ See Memorandum, “Verification of the Cost Response of Finkelstein Metals Ltd. in the Less-Than-Fair-Value Investigation of Brass Rods from Israel,” dated June 5, 2024; Memorandum, “U.S. Virtual Verification of the Response of Finkelstein Metals USA Inc. in the Less-Than-Fair-Value Investigation of Brass Rod from Israel,” dated June 11, 2024; and Memorandum, “Verification of the Sales Response of Finkelstein Metals Ltd. in the Antidumping Duty Investigation of Brass Rod from the Israel,” dated June 11, 2024.

Analysis of Comments Received

All issues raised in the case and rebuttal briefs submitted by interested parties in this investigation are addressed in the Issues and Decision Memorandum. A list of the issues addressed in the Issues and Decision Memorandum is attached as Appendix II to this notice.

Changes Since the Preliminary Determination

We made certain changes to the margin calculation for Finkelstein, since the Preliminary Determination.⁹ For a discussion of these changes, see the Issues and Decision Memorandum.

⁹ See Memorandum, “Analysis for the Final Determination for Finkelstein Metals Ltd.,” dated concurrently with this notice.

All-Others Rate

Section 735(c)(5)(A) of the Act provides that the estimated weighted-average dumping margin for all other exporters and producers not individually examined shall be an amount equal to the weighted average of the estimated weighted-average dumping margins established for exporters and producers individually investigated, excluding any zero and de minimis margins, and any margins determined entirely under section 776 of the Act.

In this investigation, Commerce calculated an individual estimated weighted-average dumping margin for Finkelstein, the only individually examined exporter/producer. Because the only individually calculated dumping margin is not zero, de minimis, or based entirely on facts otherwise available, the estimated weighted-average dumping margin calculated for Finkelstein is the margin assigned to all other producers and exporters, pursuant to section 735(c)(5)(A) of the Act.

Final Determination

Commerce determines that the following estimated weighted-average dumping margins exist for the period, April 1, 2022, through March 31, 2023:

Exporter/producer | Weighted- average dumping margin (percent) | Cash deposit rate (adjusted for subsidy offset(s)) (percent)
Finkelstein Metals Ltd | 19.48 | Not Applicable.
All Others | 19.48 | Not Applicable.

Disclosure

Commerce intends to disclose the calculations performed in connection with this final determination to interested parties within five days of any public announcement or, if there is no public announcement, within five days of the publication of the notice in the Federal Register, in accordance with 19 CFR 351.224(b).

Suspension of Liquidation

As a result of our Preliminary Determination, and pursuant to sections 733(d)(2) and 733(d)(1)(B) of the Act and 19 CFR 351.205(d), Commerce instructed U.S. Customs and Border Protection (CBP) to collect cash deposits and suspend liquidation of entries of subject merchandise as described in the scope of the investigation, entered, or withdrawn from warehouse, for consumption on or after December 14, 2024, the date of publication of the Preliminary Determination in the Federal Register. In accordance with section 733(d)(2)(b) of the Act, we instructed CBP to discontinue the suspension of liquidation of all entries of subject merchandise entered or withdrawn from warehouse on or after June 11, 2024, but to continue the suspension of liquidation of all entries of subject merchandise on or before June 10, 2024.

Pursuant to sections 736(a), 735(c)(1)(B)(ii) of the Act and 19 CFR 351.210(d), in the event of an affirmative injury determination by the U.S. International Trade Commission (ITC), we will issue an antidumping duty order, reinstate the suspension of liquidation, and require a cash deposit of estimated antidumping duties for such entries of subject merchandise in the amounts indicated above. Effective on the date of publication in the Federal Register of the ITC's final determination, Commerce will instruct CBP to require a cash deposit equal to the estimated weighted-average dumping margin or the estimated all others rate as follows: (1) the cash deposit rate for the companies listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin.

Commerce normally adjusts cash deposits for estimated antidumping duties by the amount of export subsidies countervailed in a companion CVD proceeding when CVD provisional measures are in effect. Accordingly, where Commerce made a final affirmative determination for countervailable export subsidies, Commerce has offset the estimated weighted-average dumping margin by the appropriate CVD rate. Any such adjusted cash deposit rate may be found in the “Final Determination” section above.

Pursuant to section 735(c)(2) of the Act, if the ITC determines that material injury, or threat of material injury, does not exist, this proceeding will be terminated, and all estimated duties deposited or securities posted as a result of the suspension of liquidation will be refunded or canceled.

U.S. International Trade Commission Notification

In accordance with section 735(d) of the Act, we will notify the ITC of its final affirmative determination of sales at LTFV. Because Commerce's final determination is affirmative, in accordance with section 735(b)(2) of the Act, the ITC will make its final determination as to whether the domestic industry in the United States is materially injured, or threatened with material injury, by reason of imports or sales (or the likelihood of sales) for importation of brass rod from Israel no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise, entered, or withdrawn from warehouse, for consumption on or after the effective date of the suspension of liquidation, as discussed above in the “Suspension of Liquidation” section.

Administrative Protective Order

This notice serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This determination and this notice are issued and published in accordance with sections 735(d) and 777(i) of the Act, and 19 CFR 351.210(c).

Dated: July 29, 2024.
Ryan Majerus,
Deputy Assistant Secretary for Policy and Negotiations, performing the non-exclusive functions and duties of the Assistant Secretary for Enforcement and Compliance.

Appendix I

Scope of the Investigation

The products covered by this investigation are brass rod and bar (brass rod), which is defined as leaded, low-lead, and no-lead solid brass made from alloys such as, but not limited to the following alloys classified under the Unified Numbering System (UNS) as C27450, C27451, C27460, C34500, C35000, C35300, C35330, C36000, C36300, C37000, C37700, C48500, C67300, C67600, and C69300, and their international equivalents.

The brass rod subject to this investigation has an actual cross-section or outside diameter greater than 0.25 inches but less than or equal to 12 inches. Brass rod cross-sections may be round, hexagonal, square, or octagonal shapes as well as special profiles (e.g., angles, shapes), including hollow profiles.

Standard leaded brass rod covered by the scope contains, by weight, 57.0-65.0 percent copper; 0.5-3.0 percent lead; no more than 1.3 percent iron; and at least 15 percent zinc. No-lead or low-lead brass rod covered by the scope contains by weight 59.0-76.0 percent copper; 0-1.5 percent lead; no more than 0.35 percent iron; and at least 15 percent zinc. Brass rod may also include other chemical elements (e.g., nickel, phosphorous, silicon, tin, etc.).

Brass rod may be in straight lengths or coils. Brass rod covered by this investigation may be finished or unfinished, and may or may not be heated, extruded, pickled, or cold-drawn. Brass rod may be produced in accordance with ASTM B16, ASTM B124, ASTM B981, ASTM B371, ASTM B453, ASTM B21, ASTM B138, and ASTM B927, but such conformity to an ASTM standard is not required for the merchandise to be included within the scope.

Excluded from the scope of this investigation is brass ingot, which is a casting of unwrought metal unsuitable for conversion into brass rod without remelting, that contains, by weight, at least 57.0 percent copper and 15.0 percent zinc.

The merchandise covered by this investigation is currently classifiable under subheadings 7407.21.9000, 7407.21.7000, and 7407.21.1500 of the Harmonized Tariff Schedule of the United States (HTSUS). Products subject to the scope may also enter under HTSUS subheadings 7403.21.0000, 7407.21.3000, and 7407.21.5000. The HTSUS subheadings and UNS alloy designations are provided for convenience and customs purposes. The written description of the scope of the investigation is dispositive.

Appendix II

List of Topics Discussed in the Issues and Decision Memorandum

I. Summary

II. Background

III. Changes from the Preliminary Determination

IV. Discussion of the Issue

Comment: Whether to Grant a Level of Trade Adjustment

V. Recommendation

[FR Doc. 2024-17173 Filed 8-2-24; 8:45 am]

BILLING CODE 3510-DS-P